DEPARTMENT OF HEALTH AND HUMAN SERVICES

Centers for Disease Control and Prevention

[30Day-15-0978]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Emerging Infections Program—Revision—(OMB Control No. 0920-0978, Expires 8/31/2016), National Center for Emerging and Zoonotic Infectious Diseases (NCEZID), Centers for Disease Control and Prevention (CDC).

Background and Brief Description

The Emerging Infections Programs (EIPs) are population-based centers of excellence established through a network of state health departments collaborating with academic institutions; local health departments; public health and clinical laboratories; infection control professionals; and healthcare providers. EIPs assist in local, state, and national efforts to prevent, control, and monitor the public health impact of infectious diseases. Various parts of the EIP have received separate Office of Management and Budget (OMB) clearances (Active Bacterial Core Surveillance [ABCs]—OMB Control Number 0920-0802 and All Age Influenza Hospitalization Surveillance—OMB Control Number 0920-0852).

In this revision package we wish to seek OMB clearance to add Healthcare Associated Infections—Community Interface (HAIC): active population-based surveillance for healthcare associated pathogens and infections (including Clostridium difficile infection). There are no other changes included in this revision request; therefore, no changes are being made to the ABC, FoodNet, and Influenza portions of the EIP.

Activities of the EIPs fall into the following general categories: (1) Active surveillance; (2) applied public health epidemiologic and laboratory activities; (3) implementation and evaluation of pilot prevention/intervention projects; and (4) flexible response to public health emergencies.

Activities of the EIPs are designed to: (1) Address issues that the EIP network is particularly suited to investigate; (2) maintain sufficient flexibility for emergency response and new problems as they arise; (3) develop and evaluate public health interventions to inform public health policy and treatment guidelines; (4) incorporate training as a key function; and (5) prioritize projects that lead directly to the prevention of disease. Proposed respondents will include state health departments who may collaborate with one or more of the following: academic institutions, local health departments, public health and clinical laboratories, infection control professionals, and healthcare providers. Frequency of reporting will be determined as cases arise.

The addition of HAIC to the EIP increases the total estimated burden by 10,300 hours to 22, 755 hours. There is no cost to respondents other than their time.

Estimated Annualized Burden Hours
Type of respondent | Form name | Number of respondents | Number of responses per respondent | Avg. burden per response (in hours)
State Health Department | ABCs Case Report Form | 10 | 809 | 20/60
| Invasive Methicillin-resistant Staphylococcus aureus ABCs Case Report Form | 10 | 609 | 20/60
| ABCs Invasive Pneumococcal Disease in Children Case Report Form | 10 | 22 | 10/60
| ABCs Non-Bacteremic Pneumococcal Disease Case Report Form | 10 | 100 | 10/60
| Neonatal Infection Expanded Tracking Form | 10 | 37 | 20/60
| ABCs Legionellosis Case Report Form | 10 | 100 | 20/60
| Campylobacter | 10 | 637 | 20/60
| Cryptosporidium | 10 | 130 | 10/60
| Cyclospora | 10 | 3 | 10/60
| Listeria monocytogenes | 10 | 13 | 20/60
| Salmonella | 10 | 827 | 20/60
| Shiga toxin producing E. coli | 10 | 90 | 20/60
| Shigella | 10 | 178 | 10/60
| Vibrio | 10 | 20 | 10/60
| Yersinia | 10 | 16 | 10/60
| Hemolytic Uremic Syndrome | 10 | 10 | 1
| Influenza Hospitalization Surveillance Project Case Report Form | 10 | 400 | 15/60
| Influenza Hospitalization Surveillance Project Vaccination Telephone Survey | 10 | 100 | 5/60
| Influenza Hospitalization Surveillance Project Vaccination Telephone Survey Consent Form | 10 | 100 | 5/60
EIP site | CDI Case Report Form | 10 | 1650 | 20/60
| CDI Treatment Form | 10 | 1650 | 10/60
| Resistant Gram-Negative Bacilli Case Report Form | 10 | 500 | 20/60
Person in the community infected with C. difficile (CDI Cases) | Screening Form | 600 | 1 | 5/60
| Telephone interview | 500 | 1 | 40/60
Total

Leroy A. Richardson,
Chief, Information Collection Review Office, Office of Scientific Integrity, Office of the Associate Director for Science, Office of the Director, Centers for Disease Control and Prevention.

[FR Doc. 2015-16893 Filed 7-9-15; 8:45 am]

BILLING CODE 4163-18-P